COMMISSION ON CIVIL RIGHTS

Notice of Public Meeting of the Illinois Advisory Committee for Fact Finding on Immigrant Communities in Illinois

AGENCY: Commission on Civil Rights.

ACTION: Notice of meeting.

SUMMARY: Notice is hereby given, pursuant to the provisions of the rules and regulations of the U.S. Commission on Civil Rights (Commission) and the Federal Advisory Committee Act that the Illinois Advisory Committee (Committee) will hold a fact finding meeting on Monday, September 23, 2013, for the purpose of gathering information and hearing recommendations regarding the civil rights implications of the comprehensive immigration reform bill on Illinois' immigrant communities. The purpose of the meeting will be to hear statements about whether the bill, if passed, would or could disparately impact categories of individuals or create unequal opportunities. The meeting will also address whether the bill remedies existing civil rights concerns of immigrant communities. The testimony presented at the meeting will address these research goals.

Members of the public are invited and welcomed to make statements into the record at the meeting starting at 4:00 p.m. Members of the public are also entitled to submit written comments; the comments must be received in the regional office by October 23, 2013. Written comments may be mailed to the Midwestern Regional Office, U.S. Commission on Civil Rights, 55 W. Monroe St., Suite 410, Chicago, IL 60615. They may also be faxed to the Commission at (312) 353-8311, or emailed to the Commission at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Illinois Advisory Committee link. Persons interested in the work of this Committee are directed to the Commission's Web site, http://www.usccr.gov, or may contact the Midwestern Regional Office at the above email or street address.

Agenda

The meeting will consist of panels of presenters offering testimony about the topic. Scheduled presenters include Chicago immigration attorney Mike Jarecki, Lisa Palumbo of the Legal Assistance Foundation, DePaul College of Law Professor R. Linus Chan, Chicago lawyer Tejas Shah, representatives from the National Immigrant Justice Center and Advancing Justice-Chicago, and other experts representing various viewpoints and positions on the topic.

DATES: The meeting will be held on Monday, September 23, 2013, at 11:00 a.m. until 5:00 p.m.

ADDRESSES: The meeting will be held at DePaul University's North Café Room, 1 E. Jackson Blvd., 11th Floor, Chicago, IL 60604.

Dated: September 6, 2013.
David Mussatt,
Acting Chief, Regional Programs Coordination Unit.

[FR Doc. 2013-22108 Filed 9-10-13; 8:45 am]

BILLING CODE 6335-01-P